DEPARTMENT OF HOMELAND SECURITY

Coast Guard

33 CFR Part 100

[CGD07-05-015]

RIN 1625-AA08

Special Local Regulations; Dania Beach/Hollywood Super Boat Race, Dania Beach/Hollywood, FL

AGENCY: Coast Guard, DHS.

ACTION: Notice of proposed rulemaking.

SUMMARY: The Coast Guard proposes to establish a temporary special local regulation for the Dania Beach/Hollywood Super Boat Race offshore in Dania Beach/Hollywood, Florida. These special local regulations restrict the movement of non-participating vessels and persons in the regulated race area and provide a viewing area for spectator craft. This rule is needed to provide for the safety of life on navigable waters during the event.

DATES: Comments and related material must reach the Coast Guard on or before May 17, 2005.

ADDRESSES: You may mail comments and related material to: Commander, Coast Guard Sector Miami, 100 MacArthur Causeway, Miami Beach, Fl 33139 Attn: BMC R. Terrell or BMC D. Vaughn. Sector Miami Deck/ATON maintains the public docket for this rulemaking. Comments and material received from the public, as well as documents indicated in this preamble as being available in the docket, will become part of this docket and will be available for inspection or copying at Coast Guard Sector Miami, 100 MacArthur Causeway, Miami Beach, Florida between 8 a.m. and 4 p.m., Monday through Friday, except Federal holidays.

FOR FURTHER INFORMATION CONTACT: Boatswain's Mate Chief Richard Terrell or Boatswain's Mate Chief Daniel Vaughn, at (305) 535-4317.

SUPPLEMENTARY INFORMATION:

Request for Comments

We encourage you to participate in this rulemaking by submitting comments and related material. If you do so, please include your name and address, identify the docket number for this rulemaking CGD07-05-015, indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Commander, U.S. Coast Guard Sector Miami at the address under ADDRESSES explaining why one would be beneficial. If we determine that one would aid this rulemaking, we will hold one at a time and place announced by a later notice in the Federal Register.

Background and Purpose

Super Boat International Productions Inc. is sponsoring a high-speed power boat race event on July 17, 2005, from 10 a.m. until 5 p.m. in the Atlantic Ocean offshore from Dania Beach/Hollywood, Florida. The race organizers anticipate 35 race participants and 100 spectator craft. The event will take place outside of the marked channel and will not interfere with commercial shipping. Recreational and fishing vessels normally operate in the area that will be affected by the establishment of a special local regulation. This rule is required to provide for the safety of life on navigable waters, due to the dangers associated with power boat races. The proposed rule prohibits non-participating vessels and persons from entering the regulated race areas during the event. A Coast Guard Patrol Commander will be present during the event to monitor compliance with this regulation.

Discussion of Proposed Rule

This rule creates two regulated areas, a regulated race area and a regulated viewing area (regulated areas). These regulated areas provide for the safety of life on navigable waters and minimize the dangers associated with powerboat races. These dangers include race craft traveling at high speeds in close proximity to race participants, spectator craft. This regulation keeps event participants, spectator craft and recreational vessels at a safe distance from one another.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this proposed rule to be so minimal that a full Regulatory Evaluation under the regulatory policies and procedures of DHS is unnecessary.

The proposed rule affects a limited area offshore of Dania Beach/Hollywood, Florida and will be effective for only 7 hours on July 17, 2005, specifically from 10 a.m. until 5 p.m.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This rule may affect the following entities, some of which may be small entities: the owners or operators of vessels intending to transit or anchor in a portion of the Atlantic Ocean near Dania Beach/Hollywood, Florida from 10 a.m. until 5 p.m. on July 17, 2005. The Coast Guard certifies under U.S.C. 605(b) that this rule will not have a significant economic impact on a substantial number of small entities, because this rule would be in effect for only 7 hours. The rule also regulates a small area, and commercial and recreational vessels may be allowed to transit through the zone between races with permission of the Coast Guard Patrol Commander. Moreover, all vessel traffic can pass safely around the regulated areas. Before the effective period, we will issue maritime advisories over VHF-FM radio to allow the maritime community to plan accordingly.

If you think your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact the person listed under FOR FURTHER INFORMATION CONTACT for assistance in understanding and participating in this rulemaking. The Coast Guard will not retaliate against small entities that question or complain about this rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule should be categorically excluded, under figure 2-1, paragraph (34)(h), of the Instruction, from further environmental documentation because this regulation is a special local regulation issued in conjunction with an organized water event of limited duration. Under Figure 2-1, Paragraph 34(h), an “Environmental Analysis Check List” and a final “Categorical Exclusion Determination” are not required for this rule. Comments on this section will be considered before we make the final decision on whether the rule should be categorically excluded from further environmental review.

List of Subjects in 33 CFR Part 100

Marine safety, Navigation (water), Reporting and recordkeeping requirements, Waterways.

For the reasons discussed in the preamble, the Coast Guard proposes to amend 33 CFR part 100 as follows:

PART 100—SAFETY OF LIFE ON NAVIGABLE WATERS

1. The authority citation for part 100 continues to read as follows:

Authority: 33 U.S.C. 1233; Department of Homeland Security Delegation No. 0170.1.

2. Add temporary § 100.35T-07-021 to read as follows:

§ 100.35T-07-021 Dania Beach/Hollywood Super Boat Race; Dania Beach/Hollywood, Florida.

(a) Definitions. (1) Regulated race area. The regulated race area encompasses all waters located inside of a line connecting the following positions offshore of Dania Beach/Hollywood, Florida:

Point 1: 26°03′41″ N, 080°05′01″ W

Point 2: 26°03′41″ N, 080°06′23″ W

Point 3: 26°00′07″ N, 080°05′36″ W

Point 4: 26°00′10″ N, 080°06′50″ W

All coordinates referenced use Datum: NAD 1983.

(2) Regulated viewing area. The regulated viewing area for spectator craft encompasses all waters located within a line connecting the following positions offshore Dania Beach/Hollywood, Florida;

Point 1: 26°03′41″ N, 080°05′30″ W

Point 2: 26°03′41″ N, 080°05′01″ W

Point 3: 26°00′07″ N, 080°05′56″ W

Point 4: 26°00′07″ N, 080°05′36″ W

All coordinates referenced use Datum NAD: 1983.

(3) Coast Guard Patrol Commander. The Coast Guard Patrol Commander is a commissioned, warrant, or petty officer of the Coast Guard who has been designated by the Commanding Officer, Coast Guard Sector Miami, Florida.

(b) Special Local Regulations. Vessels and persons are prohibited from entering the regulated race area, unless they are race participants or authorized by the Coast Guard Patrol Commander. Spectator craft may enter the regulated viewing area upon authorization of the Coast Guard Patrol Commander. If entry is authorized, all persons must follow the instructions of the Coast Guard Patrol Commander.

(c) Effective Period: This rule is effective from 10 a.m. until 5 p.m. on July 17, 2005.

Dated: March 3, 2005.
W.E. Justice,
Captain, U.S. Coast Guard, Acting Commander, Seventh Coast Guard District.

[FR Doc. 05-5336 Filed 3-17-05; 8:45 am]

BILLING CODE 4910-15-P